DEPARTMENT OF AGRICULTURE

Forest Service

American Electric Power (Formerly Appalachian Power Company) Transmission Line Construction—Jackson's Ferry (Cloverdale), Virginia, to Oceana, West Virginia. George Washington and Jefferson National Forests, Appalachian National Scenic Trail, the New River, and R.D. Bailey Lake Flowage Easement Land. Virginia Counties of Botetourt, Roanoke, Craig, Montgomery, Pulaski, Bland, Tazewell, Wythe and Giles and the West Virginia Counties of Monroe, Summers, Mercer, McDowell and Wyoming

AGENCY: Forest Service, USDA.

ACTION: Revised Notice—Revises the proposed action based on the application submitted by the proponent (American Electric Power) to include a different federal land crossing; identifies a new construction endpoint; identifies three new counties in Virginia and West Virginia affected by the transmission line proposal; notifies interested parties of the federal agencies' intent to prepare a supplemental draft environmental impact statement; establishes the date, time and location of 3 public meetings; and provides the dates for the publication of the supplemental draft and final environmental impact statements.

SUMMARY: On June 28, 1996 the Forest Service published a draft environmental impact statement for American Electric Power's (AEP's) proposed crossing of federal lands with a 765,000-Volt transmission line. AEP has since revised their preferred route for the line and changed the location of the endpoint of the transmission line from Cloverdale to Jackson's Ferry, Virginia. The Virginia State Corporation Commission and the West Virginia Public Service Commission have approved the private land components (79 miles) of the proposed transmission line. The Commissions do not have the authority to approve transmission line corridors across federally administered lands.

The actions and assessments of the two Commissions represent significant new information for the federal agencies to consider. They also present a substantial change in the proposed action. Accordingly, the Forest Service will prepare a supplemental draft environmental impact statement, before publishing a final environmental impact statement, on a proposed action to authorize American Electric Power (formerly the Appalachian Power Company) to construct a 765,000-volt transmission line across approximately 11 miles of the George Washington and Jefferson National Forests, as well as portions of the Appalachian National Scenic Trail, the New River (at Bluestone Lake) and R.D. Bailey Lake Flowage Easement Land (at Guyandotte River).

The revised proposal by American Electric Power (AEP) crosses federal lands outside the area analyzed by the federal agencies in the draft environmental impact statement published in July of 1996. The revised AEP proposal includes the previously unaffected Virginia Counties of Wythe and Tazewell, and the West Virginia County of McDowell in addition to the Virginia Counties of Bland and Pulaski and the West Virginia County of Wyoming. The total length of the revised AEP proposal is approximately 90 miles.

The American Electric Power (AEP) proposal involves federal land under the administrative jurisdiction of the USDA Forest Service (George Washington and Jefferson National Forests and the Appalachian National Scenic Trail) and the US Army Corps of Engineers (New River and R.D. Bailey Lake Flowage Easement Land).

The Forest Service is the lead agency and is responsible for the preparation of the environmental impact statement. The National Park Service and the US Army Corps of Engineers are cooperating agencies in accordance with 40 CFR 1501.6. In initiating and conducting the analysis the federal agencies are responding to the requirements of their respective permitting processes and the need for the AEP to cross federal lands with the proposed transmission line.

The Forest Service additionally will assess how the proposed transmission line conforms to the direction contained in the Jefferson National Forest's Land and Resource Management Plan (LRMP). Changes in the LRMP could be required if the transmission line is authorized across the George Washington and Jefferson National Forests.

The Notice of Intent for the proposed action was published in the Federal Register on November 21, 1991 (56 FR 58677-58679). The Notice was revised on March 13, 1992 (57 FR 8859), April 24, 1992 (57 FR 15049), June 16, 1993 (58 FR 33248-33250) June 21, 1994 (59 FR 31975-31978), June 9, 1995 (60 FR 30511-30514), October 3, 1995 (60 FR 51770-51773) and June 5, 1996 (61 FR 28562-28565). The Notice of Availability was published on June 28, 1996 (61 FR 33735-33736).

DATES: Comments concerning this proposal should be received in writing by October 15, 2001 to ensure timely consideration. See the SUPPLEMENTARY INFORMATION section for the dates and locations of the public meetings.

ADDRESSES: Send written comments to William E. Damon, Jr., Forest Supervisor, George Washington and Jefferson National Forests, 5162 Valley pointe Parkway, Roanoke, Virginia 24019.

FOR FURTHER INFORMATION CONTACT: Ken Landgraf, Forest Service Project Coordinator, George Washington and Jefferson National Forests, 5162 Valleypointe Parkway, Roanoke, Virginia, 24019/(540) 265-5170.

SUPPLEMENTARY INFORMATION: AEP submitted an application to the George Washington and Jefferson National Forest in 1991 requesting authorizing to construct a 765,000-volt electric transmission line across approximately twelve miles of the National Forest. Portions of the Appalachian National Scenic Trail, the New River (at Bluestone Lake), and R.D. Bailey Lake Flowage Easement Land (at Guyandottee River) would also be crossed by the proposed transmission line.

Studies conducted by AEP and submitted to the Virginia State Corporation Commission and the West Virginia Public Service Commission, as part of its application and approval process, indicate a need to reinforce its extra high voltage transmission system in order to maintain a reliable power supply for projected demands within its service territory in central and western Virginia and southern West Virginia.

The total length of the electric transmission line originally proposed by the AEP was approximately 115 miles with approximately 12 miles crossing the George Washington and Jefferson National Forests. In preparing the draft environmental impact statement, the federal agencies identified a study area in which alternatives to the proposed action were developed. The study area included land located in the Virginia counties of Botetourt, Roanoke, Craig, Montgomery, Pulaski, Bland and Giles and the West Virginia counties of Monroe, Summers, Mercer and Wyoming.

In the draft environmental impact statement a range of routing alternatives was considered to meet the purpose and need for the proposed action. A no action alternative was also analyzed.

Following the publication of the Draft Environmental Impact Statement, AEP revised the location of their proposed transmission line. On May 27, 1998 AEP received approval from the West Virginia Public Service Commission to allow construction of the line of a revised route in West Virginia. On May 25, 2001 AEP received approval from the Virginia State Corporation Commission to allow construction on a new route in Virginia. Both Commissions acknowledged the need to improve reliability and that the proposed transmission line is the best means to achieve the need.

The decisions to be made following the federal agencies' analysis are whether the Forest Service and the US Army Corps of Engineers will authorize AEP to cross the George Washington and Jefferson National Forests (including the Appalachian National Scenic Trail) and the new River and R.D. Bailey Lake Flowage Easement Land, respectively, with the proposed 765,000-volt transmission line and, if so, under what conditions a crossing would be authorized.

The federal analysis will include an analysis of the effect of the proposed transmission line along the entire proposed route as well as alternative routes. Currently identified alternatives to be considered include three route modifications and the Hogback Mountain alternative that were discussed in the Virginia State Corporation Commission Hearing Examiner's report.

The significant issues previously identified for the federal analysis are listed below:

—The construction and maintenance of the 765kV transmission line and the associated access roads and right-of-way may (1) affect soil productivity by increasing soil compaction and erosion; (2) affect geologic resources (karst areas, Peters, Lewis, Potts Mountains, Arnolds Knob) and unique geologic features like caves through blasting, earthmoving or construction machinery operations; and (3) result in unstable structural conditions due to the placement of the towers.

—The construction and maintenance of the 765kV transmission line and the associated access roads and right-of-way may (1) degrade surface and ground water quality due to the application of herbicides; (2) degrade surface and ground water quality because of sedimentation resulting from soil disturbance and vegetation removal; (3) reduce the quantity of ground and spring water due to the disturbance of aquifers resulting from blasting, earthmoving or construction machinery operation; and (4) adversely affect the commercial use of ground and surface waters due to herbicide contamination and sedimentation.

—The construction and maintenance of the 765kV transmission line and the associated access roads and right-of-way may affect existing cultural resources, and historic structures and districts through the direct effects of the construction and maintenance activities and by changing the existing resource setting.

—The operation and maintenance of the 765kV transmission line and the associated access roads and right-of-way may adversely affect human health through (1) direct and indirect exposure to herbicides and (2) exposure to electromagnetic fields and induced voltage.

—The construction of the 765kV transmission line may adversely affect the safety of those operating aircraft at low altitudes or from airports located near the transmission line.

—The operation of the 765kV transmission line may (1) adversely affect communications by introducing a source of interference; (2) increase noise levels for those in close proximity to the line.

—The construction, operation and maintenance of the 765kV transmission line and the associated access roads and right-of-way may (1) adversely affect trails (including the Appalachian Trail) and trail facilities by facilitating vehicle access through new road construction and the upgrading of existing roads; and (2) reduce hiker safety by facilitating vehicle access to remote trail locations.

—The construction, operation and maintenance of the 765kV transmission line and the associated access roads and right-of-way may affect hunting, fishing, hiking, camping, boating and birding opportunities and experiences because (1) the setting in which these pursuits take place may be altered; and (2) the noise associated with the operation of the line may detract from the backcountry or recreation experience.

—The construction and operation of the 765kV transmission line and the associated access roads and right-of-way may affect local communities by (1) reducing the value of private lands adjacent to the line (2) decreasing tax revenues due to the reductions in land value; and (3) influencing economic growth, industry siting, and employment.

—The construction, operation and maintenance of the 765kV transmission line and the associated access roads and right-of-way may (1) conflict with management direction contained in resource management plans and designations; (2) affect the uses that presently occur on and adjacent to the proposed right-of-way; (3) affect the wild, scenic and/or recreational qualities of the New River; (4) affect sensitive land uses like schools, churches, and community facilities; (5) affect the cultural attachment residents feel toward Peters Mountain; (6) affect the scenic and/or recreational qualities of the Appalachian National Scenic Trail (Appalachian Trail); and (7) result in family displacement.

—The construction, operation and maintenance of the 765kV transmission line and the associated access roads and right-of-way may adversely affect the visual attributes of the area because the line, the associated right-of-way, and access roads may (1) alter the existing landscape; and (2) conflict with the standards established for scenic designations.

—The construction, operation and maintenance of the 765kV transmission line and the associated access roads and right-of-way may affect wildlife, plant and aquatic populations, habitat and livestock because (1) habitats are created, changed or eliminated; (2) herbicides are used and herbicides may be toxic; (3) the transmission line presents a flight hazard to birds; (4) electromagnetic fields and induced voltage may be injurious.

—The construction of the 765kV transmission line and the associated access roads and right-of-way may have a disproportionately high and adverse human health or environmental effects on minority and low income populations as indicated in Executive Order 12898.

—The construction and operation of the 765kV transmission line may adversely affect astronomical observation activities at the Martin Observatory (VPI) due to the introduction of obstructions to the sky (lines and towers), the introduction of light from coronal discharge, and the disruption of sensitive electronic equipment by electromagnetic fields.

—The construction and operation of the 765kV transmission line may adversely affect seismological observation activities at the VPI seismic stations located near Forest Hill and Potts Mountain.

—The construction and maintenance of the 765kV transmission line and the associated access roads and right-of-way may affect the cultural attachment that residents have for the valley between Blacksburg and Catawba, Craig County, Giles County, Mercer County and portions of Montgomery County.

The following permits and/or licenses would be required to implement the proposed action:

—Certificate of Public Convenience and Necessity (Virginia State Corporation Commission—received on May 25, 2001)

—Certificate of Public Convenience and Necessity (West Virginia Public Service Commission—received on May 27, 1998)

—Special Use Authorization (Forest Service)

—Section 10 Permit (US Army Corps of Engineers)

—Right-of-Way Easement (US Army Corps of Engineers)

—Consent to Easement (US Army Corps of Engineers)

—Other authorizations may be required from a variety of Federal and State agencies.

Public participation occurred at several points during the federal analysis process. The first point in the analysis was the scoping process (40 CFR 1501.7). The Forest Service obtained information, comments, and assistance from Federal, State and local agencies, the proponent of the action, and other individuals or organizations who are interested in or affected by the electric transmission line proposal. This input was utilized in the preparation of the draft environmental impact statement. The scoping process included, (1) identifying potential issues, (2) identifying issues to be analyzed in depth, (3) eliminating insignificant issues or those which have been covered by a relevant previous environmental analysis.

With the change in the location of the proposed action, the federal agencies will resume the scoping process by holding 3 public meetings and accepting additional comments on the scope of the analysis. The following meetings have been scheduled to provide the public with information regarding the federal analysis and to accept written comments on the proposal. The open-house portion of the meetings will begin at 5 p.m. and end at 8 p.m. At 7:00 there will be a short presentation followed by an opportunity for questions.

August 20, 2001 at Springville Elementary School, North Tazewell, Virginia.

August 21, 2001 at Fort Chiswell High School, Max Meadows, Virginia.

August 23, 2001 at Bland County High School, Bland, Virginia.

The supplemental draft environmental impact statement is expected to be filed with the Environmental Protection agency (EPA) and available for public review by April 8, 2002. At that time, EPA will publish a notice of availability of the supplemental draft environmental impact statement in the Federal Register. The comment period on the supplemental draft environmental impact statement will be 45 days from the date the EPA publishes the notice of availability in the Federal Register.

The final environmental impact statement is expected to be filed with the Environmental Protection Agency (EPA) and available for public review in October, 2002.

The Forest Service believes, at this early stage, it is important to give reviewers notice of several court rulings related to public participation in the environmental impact statement review process. First, reviewers of draft (and supplemental draft) environmental impact statements must structure their participation in the environmental review of the proposal so that it is meaningful and alerts an agency to the reviewer's position and contentions. Vermont Yankee Nuclear Power Corp. v. NRDC, 435 U.S. 519, 553 (1978). Also, environmental objections that could be raised at the draft environmental impact statement (including supplemental draft environmental impact statements) stage but that are not raised until after completion of the final environmental impact statement may be waived or dismissed by the courts. City of Angoon v. Hodel, 803 F.2d 1016, 1022 (9th Cir. 1986) and Wisconsin Heritages, Inc. v. Harris, 490 F. Supp. 1334, 1338 (E.D.Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the supplemental draft environmental impact statement should be as specific as possible. It is also helpful if comments refer to specific pages or chapters of the supplemental draft environmental impact statement. Comments may also address the adequacy of the supplemental draft environmental impact statement or the merits of the alternatives formulated and discussed in the statement. (Reviewers may wish to refer to the Council on Environmental Quality Regulations for implementing the procedural provisions of the National Environmental Policy Act at 40 CFR 1503.3 in addressing these points.)

After the comment period ends on the supplemental draft environmental impact statement, the comments will be analyzed, considered, and responded to be the three federal agencies in preparing the final environmental impact statement.

The responsible officials will consider the comments, responses, environmental consequences discussed in the final environmental impact statement, and applicable laws, regulations, and policies in making a decision regarding the proposal to cross federal lands with a 765,000-bolt transmission line. The responsible officials will document their decisions and reasons for their decisions in a Record of Decision.

The responsible official for the Forest service is William E. Damon, Jr., Forest Supervisor, George Washington and Jefferson National Forests, 5162 Valleypointe Parkway, Roanoke, Virginia, 24019. The responsible official for the National Park Service is Pamela Underhill, Park Manager, Appalachian National Scenic Trail, National Park Service, Harpers Ferry Center, Harpers Ferry, West Virginia 25425. The responsible official for the US Army Corps of Engineers in West Virginia is Colonel John D. Rivenburgh, US Army Corps of Engineers, Huntington District, 508 8th Street, Huntington, West Virginia 25701-2070. The responsible official for the US Army Corps of Engineers in Virginia is Colonel David L. Hansen, US Army Corps of Engineers, Norfolk District, 803 Front Street, Norfolk, Virginia 23510.

Dated: July 31, 2001.
William E. Damon, Jr.,
Forest Supervisor, George Washington and Jefferson National Forests.

[FR Doc. 01-19555 Filed 8-3-01; 8:45 am]

BILLING CODE 3410-11-M